DEPARTMENT OF HOUSING AND URBAN DEVELOPMENT

[Docket No. FR-5683-N-43]

30-Day Notice of Proposed Information Collection: Single Family Premium Collection Subsystem-Upfront (SFPCS-U)

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: July 18, 2013.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street, SW., Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on March 5, 2013.

A. Overview of Information Collection

Title of Information Collection: Single Family Premium Collection Subsystem-Upfront (SFPCS-U).

OMB Approval Number: 2502-0423.

Type of Request: Extension of a currently approved collection.

Form Number: None.

Description of the need for the information and proposed use: The Single Family Premium Collection Subsystem-Upfront (SFPCS-U) allows the lenders to remit the Upfront Mortgage Insurance Premiums using funds obtained from the mortgagor during the closing of the mortgage transaction at settlement.

The SFPCS-U strengthens HUD's ability to manage and process upfront single-family mortgage insurance premium collections and corrections. It also improves data integrity for the Single Family Mortgage Insurance Program. Therefore, the FHA approved lenders transmit UPMIP payment case detail directly to HUD and this information is remitted by HUD to the Department of the Treasury's Pay.gov Automated Clearing House (ACH) applications. The case-level payment information sent to HUD is updated on the Single Family Premium Collection Subsystem-Upfront (SFPCS). The authority for this collection of information is specified in 24 CFR 203.280 and 24 CFR 203.281. The collection of information is also used in calculating refunds due to former FHA mortgagors when they apply for homeowner refunds of the unearned portion of the mortgage insurance premium, 24 CFR 203.283, as appropriate. Without this information the premium collection/monitoring process would be severely impeded, and program data would be unreliable. In general, the lenders use the ACH applications to remit the upfront premium through SFPCS-U to obtain mortgage insurance for the homeowner.

Estimation of the total numbers of hours needed to prepare the information collection including number of respondents, frequency of response, and hours of response: Hourly rate is based on an estimate of the annual salary of lender clerical staff at $33,634. The number of annual burden hours is 4,880. The number of respondents is 2,711, the number of responses is 32,532, the frequency of response is monthly, and the estimated burden time response is approximated 15 minutes.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35

Dated: June 11, 2013.
Colette Pollard,
Department Reports Management Officer, Office of the Chief Information Officer.

[FR Doc. 2013-14530 Filed 6-17-13; 8:45 am]

BILLING CODE 4210-67-P